Proclamation 8462 of December 2, 2009

International Day of Persons with Disabilities, 2009

By the President of the United States of America

A Proclamation

This year, in an effort to renew our global commitment to human rights and fundamental freedoms for persons with disabilities, the United States became a proud signatory of the United Nations Convention on the Rights of Persons with Disabilities. This treaty represents a paradigm shift, urging equal protection and benefits for all citizens, and reaffirming the inherent dignity and independence of the 650 million people living with disabilities worldwide. Today, as we commemorate the International Day of Persons with Disabilities, we celebrate the skills, achievements, and contributions of persons with disabilities in America and around the world. We recognize the progress we have made toward equality for all, and we rededicate ourselves to ensuring individuals with disabilities can reach their greatest potential.

Despite our increased efforts, persons with disabilities continue to face barriers to their full participation in society. In the United States, Americans with disabilities still experience discrimination in the workplace and in their communities. In developing nations, 90 percent of children with disabilities do not attend school, and women and girls with disabilities are all too often subjected to deep discrimination. If we are to move forward as a people, both at home and abroad, all individuals must be fully integrated into our human family.

The International Day of Persons with Disabilities is a time to renew our commitment to the principles of empowerment, dignity, and equality. The United States has co-sponsored and joined consensus on the United Nations General Assembly Third Committee’s resolution titled, “Realizing the Millennium Development Goals for Persons with Disabilities.” We must continue to embrace diversity and reject discrimination in all its forms, and insist on equality of opportunity and accessibility for all. Let our efforts remind us that when we work together, we can build a world free of unnecessary barriers and include every member of our international community.

NOW, THEREFORE, I, BARACK OBAMA, President of the United States of America, by virtue of the authority vested in me by the Constitution and the laws of the United States, do hereby proclaim December 3, 2009, as International Day of Persons with Disabilities. I call on all Americans to observe this day with appropriate ceremonies, activities, and programs.

IN WITNESS WHEREOF, I have hereunto set my hand this second day of December, in the year of our Lord two thousand nine, and of the Independence of the United States of America the two hundred and thirty-fourth.

[FR Doc. E9-29373

Filed 12-7-09; 8:45 am]

Billing code 3195-W0-P